FEDERAL ACCOUNTING STANDARDS ADVISORY BOARD

Reports and Guidance Documents

AGENCY: Federal Accounting Standards Advisory Board

ACTION: Notice of New Exposure Drafts Target Audience and Qualitative Characteristics for the Consolidated Financial Report of the United States Government, and Selected Standards for the Consolidated Financial Report of the United States Government.

Board Action: Pursuant to the Federal Advisory Committee Act (Pub. L. 92-463), as amended, and the FASAB Rules of Procedure, as amended in October, 1999, notice is hereby given that the Federal Accounting Standards Advisory Board has published two new exposure drafts, Target Audience and Qualitative Characteristics for the Consolidated Financial Report of the United States Government, and Selected Standards for the Consolidated Financial Report of the United States Government.

A summary of the proposed Statement follows: On March 19, 2002, the Federal Accounting Standards Advisory Board (FASAB) released for public comment an exposure draft (ED), Target Audience and Qualitative Characteristics for the Consolidated Financial Report of the United States Government, that proposes the concept that the primary target audience of the CFR is external users represented by citizens and their intermediaries. The second exposure draft (ED), Selected Standards for the Consolidated Financial Report of the United States Government, proposes standards on applying FASAB standards to the CFR, exempting the CFR from the requirement for the Statement of Budgetary Resources and the Statement of Financing, and requiring two new statements for the CFR.

The exposure drafts will soon be mailed to FASAB's mailing list of subscribers. Additionally, it is available on FASAB's home page http://www.fasab.gov. Copies can be obtained by contacting FASAB at (202) 512-7350, or lomaxm@fasab.gov or fontenroser@fasab.gov. Respondents are encouraged to comment on any part of the exposure draft. Written comments are requested by June 30, 2002, and should be sent to: Wendy M. Comes, Executive Director, Federal Accounting Standards Advisory Board, 441 G Street, NW., Suite 6814, Mail Stop 6K17V, Washington, DC 20548.

FOR FURTHER INFORMATION CONTACT: Wendy M. Comes, Executive Director, 441 G Street, NW., Suite 6814, Washington, DC 20548, or call (202) 512-7350.

Authority: Federal Advisory Committee Act. Pub. L. No. 92-463.

Dated: March 25, 2002.
Wendy M. Comes,
Executive Director.

[FR Doc. 02-7434 Filed 3-27-02; 8:45 am]

BILLING CODE 1610-01-M